FEDERAL COMMUNICATIONS COMMISSION

[Report No. 2667]

Petition for Reconsideration and Clarification of Action in Rulemaking Proceeding

August 3, 2004.

Petition for Reconsideration and Clarification has been filed in the Commission's Rulemaking proceeding listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to this petition must be filed by August 24, 2004. See Section 1.4(b)(1) of the Commission's rules (47 CFR 1.4(b)(1)). Replies to an opposition must be filed within 10 days after the time for filing oppositions have expired.

Subject: In the Matter of Access Charge Reform; Reform of Access Charges Imposed by Competitive Local Exchange Carriers; Petition of Z-Tel Communications, Inc., for Temporary Waiver of Commission Rule 61.26(d) to Facilitate Deployment of Competitive Service in Certain Metropolitan Statistical Areas (CC Docket No. 96-262).

Number of Petitions Filed: 1.

Marlene H. Dortch,
Secretary.

[FR Doc. 04-18145 Filed 8-6-04; 8:45 am]

BILLING CODE 6712-01-M